DEPARTMENT OF TRANSPORTATION

National Highway Traffic Safety Administration

[Docket No. NHTSA 2000-7125, Notice 1]

General Motors Corp.; Receipt of Application for Determination of Inconsequential Noncompliance

General Motors Corporation (GM) has applied to be exempted from the notification and remedy requirements of 49 U.S.C. Chapter 301 “Motor Vehicle Safety” for a noncompliance with Federal Motor Vehicle Safety Standard (FMVSS) No. 209, “Seat Belt Assemblies,” on the basis that the noncompliance is inconsequential to motor vehicle safety. GM has filed a report of a noncompliance pursuant to 49 CFR part 573 “Defects and Noncompliance Reports.”

This notice of receipt of the application is published under 49 U.S.C. 30118 and 30120 and does not represent any agency decision or other exercise of judgment concerning the merits of the application.

Description of Noncompliance

GM has determined that the driver safety belt assembly in some GM S/T pickup trucks and sport utility vehicles does not meet the requirements of S4.3(j)(1) of FMVSS 209. The vehicles involved are model year 1999 and 2000 versions of the Chevrolet S-10 and GMC Sonoma pickups and the Chevrolet Blazer/Trail Blazer, GMC Jimmy/Envoy, and Oldsmobile Bravada utility vehicles. Some of these trucks were built with a driver safety belt emergency locking retractor that will not meet the 0.7 g locking requirements of the standard.

GM requested exemption from the notice and remedy requirement of the 49 U.S.C. 30118(d) and 49 U.S.C. 30120(h), because it believes this noncompliance is inconsequential to motor vehicle safety.

S4.3(j)(1) of FMVSS No. 209 requires that an emergency locking retractor of a Type 1 or Type 2 safety belt assembly “shall lock before the webbing extends 25 mm when the retractor is subjected to an acceleration of 7 m/s² (0.7 g).”

Some of the retractors in question exhibit, to a varying degree, plastic flash (burr) on the sensor lever near the pivot where it mates to the sensor housing. This flash can cause a nonconformance with the 0.7 g locking requirement due to potential increased drag of the sensor lever in the housing.

Supporting Information as Submitted by General Motors

GM reported the following analysis to support the petition.

GM and its safety belt supplier located retractors from the same build period (weeks 6-32 of 1999) as the subject retractors in order to perform testing to investigate this matter. A total of 1,392 retractors from this build period were obtained and tested. Of these, only 50 (3.5%) did not lock when tested in each of four directions at 0.6 g (the GM test specification level). Only 10 of those (0.72% of the 1,392 total) did not lock when tested 10 times in each of four directions at 0.7 g. Based on this testing, only a very small portion of the subject retractors is expected to not meet the 0.7 g requirement.

Additionally, GM compared the 0.7 g retractor locking requirement to (1) the onset of significant shoulder belt loading in S/T truck crash tests and (2) the calculated side-pull coefficient often used to help assess rollover propensity. These collision types represent circumstances where the safety belt certainly provides important safety benefits. The crash test analysis indicates retractor locking still occurs prior to any significant safety belt loading or motion of the occupant relative to the belt. The rollover analysis indicates that safety belt retractor lock-up will occur prior to rollover of these subject vehicles.

Finally, as a result of tests performed on the small quantity (10) of questionable retractors that were available, GM also has determined that the simulation of the jouncing and jostling that vehicles are subject to during transit to dealerships, either by rail or truck (haulaway), generally reduces the effect of the flash such that a large percentage of the noncompliant vehicles become compliant prior to transit completion. In the case of rail transit, we estimate noncompliant retractors to become compliant after four hours of transit. Almost all vehicles shipped by rail travel more than four hours. In the case of simulated haulaway transit, six of nine noncompliant retractors were compliant after three hours of transit (approximately 150 miles), and seven of nine were compliant after six hours of transit (approximately 300 miles). Approximately 90% of all S/T trucks shipped by haulaway travel more than three hours.

Accordingly, the already small number of potentially noncompliant retractors will be further reduced by the time they arrive at the dealership. For the reasons outlined above, GM believes that this noncompliance is inconsequential to motor vehicle safety. Accordingly GM petitions that it be exempt from the remedy and recall provision of the Motor Vehicle Safety Act in this case.

Interested persons are invited to submit written data, views and arguments on the petition of GM, described above. Comments should refer to the Docket Number and be submitted to: Docket Management, National Highway Traffic Safety Administration, Room PL 401, 400 7th Street, SW., Washington, DC 20590. It is requested that two copies be submitted.

All comments received before the close of business on the closing date indicated below will be considered. The application and supporting materials, and all comments received after the closing date will also be filed and will be considered to the extent practicable. When the application is granted or denied, a Notice will be published in the Federal Register pursuant to the authority indicated below.

Comment closing date: May 25, 2000.

(49 U.S.C. 30118, 30120; delegations of authority at 49 CFR 1.50 and 49 CFR 501.8)

Issued on: April 19, 2000.
Stephen R. Kratzke,
Associate Administrator for Safety Performance Standards.

[FR Doc. 00-10246 Filed 4-24-00; 8:45 am]

BILLING CODE 4910-59-P